DEPARTMENT OF ENERGY

Federal Energy Regulatory Commission

[Project No. 11685-001 Ohio]

The Stockport Mill Country Inn; Notice of Availability of Final Environmental Assessment

November 15, 2000.

In accordance with the National Environmental Policy Act of 1969 (NEPA) and the Federal Energy Regulatory Commission's (Commission's) regulations, 18 CFR Part 380 (Order No. 486, 52 FR 47897), the Office of Energy Projects has reviewed the application for an original license for the proposed Stockport Mill Country Inn Water Power Project, located on the Muskingum River, near the town of Stockport, Morgan County, Ohio, and has prepared a Final Environmental Assessment (EA) for the project. In the EA, the Commission's staff has analyzed the potential environmental impacts of the project and has concluded that licensing the project, with appropriate environmental protection measures, would not constitute a major federal action significantly affecting the quality of the human environment.

Copies of the EA are available for review in the Public Reference Branch, Room 2-A, of the Commission's offices at 888 First Street, NE., Washington, DC 20426. The EA may also be viewed on the web at http://www.ferc.fed.us/online/rims.htm. Please call (202) 208-2222 for assistance. For further information about the EA, contact Tom Dean at (202) 219-2778.

Linwood A. Watson, Jr.,
Acting Secretary.

[FR Doc. 00-29699 Filed 11-20-00; 8:45 am]

BILLING CODE 6717-01-M